DEPARTMENT OF AGRICULTURE

Foreign Agricultural Service

Notice of Request for Revision of a Currently Approved Information Collection

AGENCY: Foreign Agricultural Service, USDA.

ACTION: Notice and request for comments.

SUMMARY: In accordance with the Paperwork Reduction Act of 1995, this notice announces the Foreign Agricultural Service's intention to request a renewal of current information collection processes currently used in support of Exporter Assistance programs. This request to renew is based on estimates of the public burden set forth in the abstract.

DATES: Comments on this notice must be received by January 7, 2008 to be assured of consideration.

Requests for Comments: Send comments regarding (a) whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of automated electronic, mechanical, or other technological collection techniques or other forms of information technology. Comments and questions regarding the Export Assistance Programs registration forms, surveys and qualification criteria should be send to: Maria Nemeth-Ek, Branch Chief, Overseas Trade Support Group, Market Development and Grants Management Division, Office of Trade Programs, Foreign Agricultural Service, U.S. Department of Agriculture, 1400 Independence Avenue, SW., Stop 1052, Washington, DC 20250-1052. All written comments received will be available for public inspection at the above address during business hours from 8 a.m. to 5 p.m.—Phone (202) 720-6343, Fax: (202) 690-0193.

SUPPLEMENTARY INFORMATION: Title: Export Services.

OMB Number: 0551-0031.

Expiration Date of Approval: March 31, 2008.

Type of Request: Renewal of a currently approved information collection process.

Abstract: The major objective of the Overseas Trade Support Group is to expand U.S. agricultural exports by helping U.S. companies to sell their products outside the United States. U.S. companies use the Foreign Buyer List service to learn of 20,000 buyers in more than 25 countries who specialize in the importation and distribution of U.S. products in their country. Specific program and form information is available at: http://www.fas.usda.gov/agx/buying_us/foreign_buyers_exporters.asp. Each year a certain number of trade shows are selected in the best prospective markets to host a U.S.A. pavilion where U.S. companies can promote their products to buyers. A list of USDA endorsed shows is available at: http://www.fas.usda.gov/agx/trade_events/trade_events.asp. The Exporter Assistance section of the FAS Web site http://www.fas.usda.gov/, a one-stop-shop for either the experienced or novice exporter offers information about exporting and easy access to register for these services. Customer service surveys are collected at various trade shows and evaluations of Foreign Buyers List data are downloaded annually in order to improve the effectiveness of these services. The information is necessary to manage, plan and evaluate the effectiveness of these services, which are intended to help U.S. companies to market and sell their products in overseas markets. Authority to collect this information falls under 7 U.S.C. part 1761 and is voluntary for U.S. companies to participate. A small fee is charged for some of the services.

Estimate of Burden: The burden to U.S. exporters is estimated to average 0.25 hours per response.

Respondents: U.S. agricultural exporters of food, farm, and forest products.

Estimated Number of Respondents: 3000 per annum.

Estimated Number of Responses per Respondent: 4 per annum.

Estimated Total Annual Burden of Respondents: 3000 hours per annum.

Copies of this information collection can be obtained from Tamoria Thompson-Hall, the Agency Information Collection Coordinator, at (202) 720-1690.

All responses to this notice will be summarized and included in the request for OMB approval. All comments will also become a matter of public record.

Signed at Washington, DC.
Michael W. Yost,
Administrator, Foreign Agricultural Service.

[FR Doc. E7-21785 Filed 11-5-07; 8:45 am]

BILLING CODE 3410-10-P